DEPARTMENT OF COMMERCE

International Trade Administration

[A-122-503]

Iron Construction Castings from Canada: Notice of Final Results of Antidumping Duty Administrative Review

AGENCY: Import Administration, International Trade Administration, Department of Commerce.

ACTION: Notice of final results of antidumping duty administrative review.

SUMMARY: On April 10, 2002, the Department of Commerce (the Department) published the preliminary results of the administrative review of the antidumping duty order on iron construction castings (ICC) from Canada (67 FR 17358). This review covers one manufacturer/exporter of the subject merchandise, Canada Pipe Company, Ltd. The period of review (POR) is March 1, 2000, through February 28, 2001.

Based on our analysis of the comments received, we have made no changes in the margin calculation. The final weighted-average dumping margin for the reviewed firm is listed below in the section entitled, “Final Results of Review.”

EFFECTIVE DATE: August 16, 2002.

FOR FURTHER INFORMATION CONTACT: Karine Gziryan or Howard Smith, Office of AD/CVD Enforcement, Office 4, Group II, Import Administration, International Trade Administration, U.S. Department of Commerce, 14th Street and Constitution Avenue, NW, Washington, DC 20230; telephone (202) 482-4081 and (202) 482-5193, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR Part 351 (April 2002).

Background

On April 10, 2002, the Department published in the Federal Register the preliminary results of the administrative review of the antidumping duty order on ICC from Canada. See Notice of Preliminary Results of Antidumping Duty Administrative Review: Iron Construction Castings from Canada, 67 FR 17358 (April 10, 2002).

In response to the Department's invitation to comment on the preliminary results of this review, Canada Pipe Company, Ltd. (Canada Pipe or respondent) filed its case brief on May 10, 2002. No other interested parties filed case or rebuttal briefs.

The Department has conducted this administrative review in accordance with section 751 of the Act.

Scope of Review

The merchandise covered by this review consists of certain iron construction castings from Canada, limited to manhole covers, rings, and frames, catch basin grates and frames, cleanout covers and frames used for drainage or access purposes for public utility, water and sanitary systems, classifiable as heavy castings under Harmonized Tariff Schedule (HTS) item numbers 7325.10.0010, 7325.10.0020, and 7325.10.0025¹. The HTS item numbers are provided for convenience and Customs purposes only. The written description remains dispositive.

¹ The scope reflects the HTS item numbers currently in effect.

Period of Review

The POR is March 1, 2000, to February 28, 2001.

Analysis of Comments Received

All issues raised in the case briefs filed by parties to this administrative review are addressed in the “Issues and Decision Memorandum” (Decision Memorandum) from Bernard T. Carreau, Deputy Assistant Secretary for Import Administration, Group II, to Faryar Shirzad, Assistant Secretary for Import Administration, dated August 8, 2002, which is hereby adopted by this notice. A list of the issues which parties have raised and to which we have responded, all of which are in the Decision Memorandum, is attached to this notice as an Appendix. Parties can find a complete discussion of all issues raised in this review and the corresponding recommendations in this public memorandum, which is on file in the Central Records Unit, room B-099, of the main Department building. In addition, a complete version of the Decision Memorandum can be accessed directly on the Web at http://ia.ita.doc.gov. The paper copy and electronic version of the Decision Memorandum are identical in content.

Changes Since the Preliminary Results

Based on our analysis of comments received, we have made no changes in the margin calculation.

Final Results of Review

We determine that the following weighted-average percentage margin exists for the period March 1, 2000, through February 28, 2001:

Manufacturer/Exporter | Percent Margin
Canada Pipe Company, Ltd. | 1.43 percent

Cash Deposit Requirements

The following deposit requirements will be effective upon publication of this notice of final results of administrative review for all shipments of ICC from Canada entered, or withdrawn from warehouse, for consumption on or after the date of publication, as provided by section 751(a)(1) of the Act: (1) the cash deposit rate for Canada Pipe Company, Ltd.² will be the rate shown above; (2) for previously reviewed or investigated companies not covered in this review, the cash deposit rate will continue to be the company-specific rate published for the most recent period; (3) if merchandise is exported by a firm other than the manufacturer and the exporter is not a firm covered in this review, prior reviews, or the original less-than-fair-value (LTFV) investigation, but the manufacturer is, the cash deposit rate will be the rate established for the most recent period for the manufacturer of the merchandise; and (4) the cash deposit rate for all other manufacturers or exporters will be 7.5 percent, the “all-others” rate established in the LTFV investigation³. These deposit requirements, when imposed, shall remain in effect until publication of the final results of administrative review for a subsequent review period.

² As noted in the accompanying Decision Memorandum, the cash deposit rate calculated for Canada Pipe Company, Ltd. in this administrative review applies to Canada Pipe Company, Ltd., including its unincorporated foundries, Laperle, Grand Mere, and Bibby Ste-Croix.

³ The “all others” rate was incorrectly identified as 14.67 percent in both the preliminary results of this review (67 FR 17358) and the preliminary results of the review covering the period March 1, 1999 through February 29, 2000 (65 FR 76609).

Assessment

The Department shall determine, and the U.S. Customs Service (Customs) shall assess, antidumping duties on all appropriate entries. In accordance with 19 CFR 351.212(b)(1), we have calculated importer-specific assessment rates based on the ratio of the total amount of antidumping duties calculated for the importer-specific sales to the total entered value of the same sales. Where the assessment rate is above de minimis, we will instruct Customs to assess duties on all entries of subject merchandise by that importer. The Department will issue appraisement instructions directly to Customs.⁴

⁴ These assessment instructions apply to Canada Pipe Company, Ltd. including its unincorporated foundries, Laperle, Grand Mere, and Bibby Ste-Croix.

Reimbursement of Duties

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification

This notice also serves as a reminder to parties subject to administrative protective order (APO) of their responsibility concerning the disposition of proprietary information disclosed under APO in accordance with 19 CFR 351.305. Timely notification of the return/destruction of APO materials or conversion to judicial protective order is hereby requested. Failure to comply with the regulations and the terms of an APO is a sanctionable violation.

We are issuing and publishing this determination and notice in accordance with sections 751(a)(1) and 777(i) of the Act.

Dated: August 8, 2002.
Faryar Shirzad,
Assistant Secretary for Import Administration.

Appendix Issues in Decision Memorandum

Comments

1. Negative Dumping Margins

2. Application of Cash Deposit and Assessment Rates

[FR Doc. 02-20904 Filed 8-15-02; 8:45 am]

BILLING CODE 3510-DS-S